DEPARTMENT OF THE INTERIOR

Bureau of Land Management

[A2407-014-004-065516; O2509-014-004-125222]

Notice of Availability of the Draft Bakersfield Field Office Oil and Gas Leasing and Development Supplemental Environmental Impact Statement, California

AGENCY: Bureau of Land Management, Interior.

ACTION: Notice of availability.

SUMMARY: In compliance with the National Environmental Policy Act (NEPA) of 1969, as amended, and the Federal Land Policy and Management Act (FLPMA) of 1976, as amended, the Bureau of Land Management (BLM) announces the availability of the Draft Supplemental Environmental Impact Statement (EIS) for the Bakersfield Field Office Oil and Gas Leasing and Development.

DATES: To afford the BLM the opportunity to consider comments in the Draft Supplemental EIS, please ensure that the BLM receives your comments within 45 days following the date the Environmental Protection Agency (EPA) publishes its Notice of Availability (NOA) of the Draft EIS in the Federal Register. The EPA usually publishes its NOAs on Fridays. The BLM will hold one virtual public meeting, with the date announced on the BLM California website. The public must register in advance for this webinar to participate: https://empsi.zoom.us/webinar/register/WN_8qypCIrwSrGVj8VYKh6anA#/registration.

ADDRESSES: The Draft Supplemental EIS and associated documents are available for review on the BLM project website at: https://eplanning.blm.gov/eplanning-ui/project/2037500/510. Written comments related to the Bakersfield Office Oil and Gas Supplemental Environmental Impact Statement may be submitted by the following method: https://eplanning.blm.gov/eplanning-ui/project/2037500/510.

Documents pertinent to this proposal may also be examined at the Bakersfield Field Office, 35126 McMurtrey Ave., Bakersfield, CA 93308.

FOR FURTHER INFORMATION CONTACT: Sarah Mathews, Project Manager, telephone (661) 391-6145; address 35126 McMurtrey Ave., Bakersfield, CA 93308; email blm_ca_bkfo_oil_gas_seis@blm.gov. Individuals in the United States who are deaf, deafblind, hard of hearing, or have a speech disability may dial 711 (TTY, TDD, or TeleBraille) to access telecommunications relay services for contacting Ms. Mathews. Individuals outside the United States should use the relay services offered within their country to make international calls to the point-of-contact in the United States.

SUPPLEMENTARY INFORMATION: The Bakersfield Field Office planning area includes Fresno, Kern, Kings, Madera, San Luis Obispo, Santa Barbara, Tulare, and Ventura counties in California and encompasses approximately 400,000 acres of public land and 1.2 million acres of Federal mineral estate. The purpose of the Supplemental EIS is to analyze the environmental effects of oil and gas leasing and development within the Planning Area and to determine whether changes are needed to the fluid minerals decisions in the Bakersfield Field Office based on new information or changes in circumstances. The need to develop the supplemental environmental analysis is to respond to settlement agreement in Case No. 2:20-cv-00371-DSF and Case No. 1:21-cv-00475-DAD-SAB, filed with the U.S. District Court for the Central District of California Western Division and the U.S. District Court for the Eastern District of California on July 29, 2022. The BLM presented preliminary information for public scoping review and comment in the June 23, 2025, Federal Register Notice of Intent (90 FR 26605). Issues identified by the BLM; Federal, State, and local agencies; and other stakeholders are analyzed in the Draft Supplemental EIS and were categorized by resource and include, but are not limited to, air and atmospheric values; water quality and quantity; special status species; and soil resources. An order issued by the U.S. District Court for the Central District of California in 2016 upheld the range of alternatives analyzed in the 2014 Proposed Resource Management Plan (RMP)/2012 Final EIS and carried forward to the 2019 Final Supplemental EIS. The five management alternatives as analyzed in the 2014 Proposed RMP/2012 Final EIS and the 2019 Supplemental EIS were:

• The No Action alternative (Alternative A) would continue management under the existing 1997 Caliente RMP and 1984 Hollister RMP, as amended.

• The Proposed Plan (Alternative B) strives to balance resource conservation and ecosystem health with the production of commodities and public use of the land.

• Alternative C emphasizes conserving cultural and natural resources, maintaining functioning natural systems, and restoring natural systems that are degraded.

• Alternative D follows Alternative C in all aspects except with regard to livestock grazing. Alternative D would eliminate livestock grazing from the BLM-managed lands in the planning area for the life of this land use plan.

• Alternative E emphasizes the production of natural resources and commodities while emphasizing public use opportunities.

The results of this draft supplemental analysis of the impacts of hydraulic fracturing, additive to those identified in the 2012 Final EIS and the 2019 Final Supplemental EIS, did not show notable increase in total impacts. No conflicts were found between the estimated impacts of hydraulic fracturing and the resource or program management goals and objectives stated in the RMP. The range of alternatives has not changed between the approved 2014 RMP and its 2012 Final EIS, the 2019 Final Supplement EIS and the 2025 Draft Supplemental EIS. Therefore, no amendment to the 2014 RMP is being proposed.

The Draft Supplemental EIS also provides supplemental information for seven lease parcels (4,134 acres) within the Bakersfield Field Office analyzed in the 2020 Environmental Assessment (EA) (DOI-BLM-CA-C060-2020-0120-EA) for the 2020 oil and gas lease sale. The 2020 EA included site-specific analysis for those seven parcels. The lease parcels were nominated through Expressions of Interest (EOI) and leased during the December 2020 Competitive Oil and Gas Lease Sale. These implementation-level decisions are subject to appeal to the Interior Board of Land Appeals after the signing of a Record of Decision for this project.

Public Involvement Process

The date and location of any additional meetings will be announced in advance through local media, newspapers, ePlanning project page (see ADDRESSES), and the BLM website (see ADDRESSES).

The BLM will continue to consult with Indian Tribal Nations on a government-to-government basis in accordance with Executive Order 13175, BLM Manual Section 1780 and other Departmental policies. Tribal concerns, including impacts on Indian trust assets and potential impacts to cultural resources, will be given due consideration.

Before including your address, phone number, email address, or other personally identifiable information in your comment, you should be aware that your entire comment—including your personally identifiable information—may be made publicly available at any time. While you can ask us in your comment to withhold your personally identifiable information from public review, we cannot guarantee that we will be able to do so.

Authority: 42 U.S.C. 4332.

Joseph Stout,
State Director.

[FR Doc. 2026-00467 Filed 1-12-26; 8:45 am]

BILLING CODE 4331-15-P